DEPARTMENT OF JUSTICE

Notice of Lodging of Consent Decree Pursuant to the Comprehensive Environmental Response, Compensation, and Liability Act

In accordance with Department of Justice policy, 28 CFR 50.7, notice is hereby given that a proposed consent decree in the action entitled United States of America v. Bruce Migell, the Tilton Trust, Bruce Migell-Trustee, and Atlantic Battery Company, Inc., d/b/a Surrette American Battery (Civil No. 99-255-M, D. N.H.), was lodged on March 22, 2000, with the United States District Court for the District of New Hampshire. The proposed consent decree resolves claims of the United States, on behalf of the U.S. Environmental Protection Agency (“EPA”), under the Comprehensive Environmental Response, Compensation, and Liability Act of 1980, as amended (“CERCLA”), 42 U.S.C. 9601-9675, against Bruce Migell, the Tilton Trust Bruce Migell-Trustee, and Atlantic Battery Company, Inc., d/b/a/ Surrette America Battery (hereinafter, defendants). These claims are for recovery of costs incurred and to be incurred by the United States with respect to the Surrette America Battery Removal Site in Northfield, New Hampshire

Under the terms of the proposed consent decree, defendants will (1) pay the United States $40,000 in partial reimbursement of past and future federal response costs with respect to the Site; and (2) provide EPA with continuing access to property owned by defendants that is part of the Site.

The Department of Justice will receive, for a period of thirty (30) days from the date of this publication, comments relating to the proposed consent decree. Comments should be addressed to the Assistant Attorney General, Environment and Natural Resources Division, U.S. Department of Justice, 950 Pennsylvania Avenue, N.W., Washington, D.C. 20530, and should refer to United States of America v. Bruce Migell, the Tilton Trust, Bruce Migell-Trustee, and Atlantic Battery Company, Inc., d/b/a/ Surrette American Battery (Civil No. 99-255-M, D. N.H.), DOJ Ref. No. 90-11-3-06012.

The proposed consent decree may be examined at the offices of EPA Region I, One Congress Street, Suite 1100, Boston, MA 02114-2023, and the Office of the United States Attorney, Federal Building, 55 Pleasant Street, Concord, New Hampshire 03301. A copy may be obtained by mail from the Consent Decree Library, U.S. Department of Justice, P.O. Box 7611, Ben Franklin Station, Washington, D.C. 20044-7611. In requesting a copy by mail, please refer to the referenced case and enclose a check in the amount of $5.75 (25 cents per page reproduction costs for the Decree and Appendix) made payable to Consent Decree Library.

Joel M. Gross,
Chief, Environmental Enforcement Section, Environmental and Natural Resources Division, U.S. Department of Justice.

[FR Doc. 00-8076 Filed 3-31-00; 8:45 am]

BILLING CODE 4410-15-M